DEPARTMENT OF TRANSPORTATION

Federal Aviation Administration

14 CFR Part 39

[Docket No. FAA-2012-0046; Directorate Identifier 2011-CE-040-AD; Amendment 39-17136; AD 2012-15-07]

RIN 2120-AA64

Airworthiness Directives; Glasflugel Gliders

AGENCY: Federal Aviation Administration (FAA), Department of Transportation (DOT).

ACTION: Final rule.

SUMMARY: We are adopting a new airworthiness directive (AD) for Glasflugel Models Standard Libelle-201B, Club Libelle 205, Mosquito, and Kestrel gliders. This AD results from mandatory continuing airworthiness information (MCAI) issued by an aviation authority of another country to identify and correct an unsafe condition on an aviation product. The MCAI describes the unsafe condition as corrosion damage to the elevator control rod that could lead to failure of the elevator control rod, possibly resulting in loss of control of the glider. We are issuing this AD to require actions to address the unsafe condition on these products.

DATES: This AD is effective September 11, 2012.

The Director of the Federal Register approved the incorporation by reference of a certain publication listed in the AD as of September 11, 2012.

ADDRESSES: You may examine the AD docket on the Internet at http://www.regulations.gov or in person at the Document Management Facility, U.S. Department of Transportation, Docket Operations, M-30, West Building Ground Floor, Room W12-140, 1200 New Jersey Avenue SE., Washington, DC 20590.

For service information identified in this AD, contact Glasfaser Flugzeug-Service Hansjörg Streifeneder GmbH, D-72582 Grabenstetten, Germany; phone: +49(0)73821032, fax: +49(0)73821629; email: info@streifly.de; Internet: www.streifly.de/. You may review copies of the referenced service information at the FAA, Small Airplane Directorate, 901 Locust, Kansas City, Missouri 64106. For information on the availability of this material at the FAA, call (816) 329-4148.

FOR FURTHER INFORMATION CONTACT: Jim Rutherford, Aerospace Engineer, FAA, Small Airplane Directorate, 901 Locust, Room 301, Kansas City, Missouri 64106; telephone: (816) 329-4165; fax: (816) 329-4090; email: jim.rutherford@faa.gov.

SUPPLEMENTARY INFORMATION:

Discussion

We issued a notice of proposed rulemaking (NPRM) to amend 14 CFR part 39 to include an AD that would apply to the specified products. That NPRM was published in the Federal Register on January 19, 2012 (77 FR 2674). That NPRM proposed to correct an unsafe condition for the specified products. The MCAI states:

A broken elevator control rod in the vertical fin on a Kestrel sailplane has been reported. The technical investigation revealed that water had soaked into the elevator control rod through a control bore hole and resulted in corrosion damage. The investigation concluded as well that the corrosion cannot be detected from outside the elevator control rod.

This condition, if not detected and corrected, could lead to failure of the elevator control rod, possibly resulting in loss of control of the sailplane.

To address this unsafe condition, Glasfaser Flugzeug-Service GmbH have developed and published Technical Note (TN) TN 201-40, TN 205-27, TN 206-26, TN 303-25, TN 304-12, TN 401-30, TN 501-10, TN 604-11, which provides instructions for elevator control rod inspection and replacement.

For the reasons described above, EASA issued AD 2011-0213 to require a one-time inspection and replacement of the affected elevator control rod with an improved part.

Comments

We gave the public the opportunity to participate in developing this AD. The following presents the comments received on the proposal and the FAA's response to each comment.

Request FAA Withdraw the Proposed AD

Jack Corneveaux wrote that virtually all gliders covered under this proposed action are stored in covered trailers or hangers and not left out in the weather. Therefore, they are not subject to problems from moisture. He claims that those few gliders that have had the elevator control rod replaced were found with the original elevator control rod in perfect condition.

The commenter also wrote that this rule was generated in Europe due to one instance where an elevator control rod on a Hornet was defective. He states that we do not know if this aircraft was mistreated by leaving it out in the weather or any other details that might have caused the problem. Jack Corneveaux concluded that the proposed fix is expensive, time consuming, and probably unnecessary.

Although no specific change was requested, based on the comments, we infer that the commenter requested the FAA withdraw the proposed AD.

We do not agree with the comments. The FAA cannot know the storage details of every aircraft on the U.S. registry. Therefore, we cannot determine the actual amount of time that any given aircraft is subject to the effects of weather, in general, and moisture, in particular. The European Aviation Safety Agency (EASA) issued MCAI based on a broken elevator control rod in the vertical fin on a Kestrel glider caused by corrosion damage from water soaking into the rod through a control bore hole.

The investigation by EASA and the type certificate (TC) holder concluded that the corrosion could not be detected from outside the elevator control rod and, if not detected and corrected, could lead to a failure of the elevator control rod and resultant loss of control of the aircraft. We concur with the findings of EASA and the TC holder. While we recognize the financial burden that this AD places on the gliding community, this does not diminish the need to accomplish the inspection and replacement of the elevator control rod to address the unsafe condition.

We have made no changes to this AD action based on these comments.

Request FAA Allow Certified A&P Mechanics To Accomplish AD Actions

Jack Corneveaux requested that the FAA allow the actions of the proposed AD be done by any certified A&P mechanic since the recommended repair stations are hundreds of miles apart in the United States.

Although not directly referenced within the comment, the repair station requirement comes from Glasfaser Flugzeug Service GmbH Technical Note TN 201-40, TN 205-27, TN 206-26, TN 303-25, TN 304-12, TN 401-30, TN 501-10, and TN 604-11, Revision 1, dated July 14, 2011 (EASA translation approval dated September 9, 2011), referenced in the proposed AD which states in the Action section:

Note: Replacement of control rod (Action 2 to 4) must be carried out by an authorised service facility.

We agree with the comment because within the United States regulatory system, there is no need for the actions required by the AD to be done solely by a repair station. 14 CFR 43.3 defines who is authorized to perform maintenance, preventative maintenance, rebuilding, and alterations. This section includes certificated mechanics in addition to repair stations.

We added text to the body of the AD that specifies that the actions mandated by this AD may be accomplished by persons authorized to perform maintenance in accordance with 14 CFR 43.3 and by persons authorized to approve aircraft for return to service after maintenance in accordance with 14 CFR 43.7.

Request FAA Approve Use of Endoscope As Alternate Inspection Method

Jack Corneveaux suggested that the elevator control rod be inspected using an endoscope. He wrote that this alternative inspection method has been successfully accomplished in Australia.

We do not agree with the comments. The FAA cannot make a determination of the acceptability of this alternative inspection method based on the information provided. The commenter may apply for an alternative method of compliance (AMOC) using the procedures found in 14 CFR 39.19. The commenter should include the AMOC application and all associated substantiating data for review.

We have made no changes to this AD action based on these comments.

Conclusion

We reviewed the relevant data, considered the comments received, and determined that air safety and the public interest require adopting the AD with the change described previously and minor editorial changes. We have determined that these minor changes:

• Are consistent with the intent that was proposed in the NPRM (77 FR 2674, January 19, 2012) for correcting the unsafe condition; and

• Do not add any additional burden upon the public than was already proposed in the NPRM (77 FR 2674, January 19, 2012).

We also determined that these changes would not increase the economic burden on any operator or increase the scope of the AD.

Costs of Compliance

We estimate that this AD will affect 54 products of U.S. registry. We also estimate that it would take about 6 work-hours per product to comply with the basic requirements of this AD. The average labor rate is $85 per work-hour. Required parts would cost about $333 per product.

Based on these figures, we estimate the cost of the AD on U.S. operators to be $45,522, or $843 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

Examining the AD Docket

You may examine the AD docket on the Internet at http://www.regulations.gov; or in person at the Docket Management Facility between 9 a.m. and 5 p.m., Monday through Friday, except Federal holidays. The AD docket contains the NPRM, the regulatory evaluation, any comments received, and other information. The street address for the Docket Office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2012-15-07 Glasflugel: Amendment 39-17136; Docket No. FAA-2012-0046; Directorate Identifier 2011-CE-040-AD.

(a) Effective Date

This airworthiness directive (AD) becomes effective September 11, 2012.

(b) Affected ADs

None.

(c) Applicability

This AD applies to the following Glasflugel models and serial number (S/N) gliders, certificated in any category:

(1) Club Libelle 205, all S/Ns

(2) Kestrel, all S/Ns, except S/N 85, 110, and 125

(3) Mosquito, all S/Ns

(4) Standard Libelle-201B, S/N 169

(d) Subject

Air Transport Association of America (ATA) Code 27: Flight Controls.

(e) Reason

This AD was prompted by mandatory continuing airworthiness information (MCAI) originated by an aviation authority of another country to identify and correct an unsafe condition on an aviation product. The MCAI describes the unsafe condition as corrosion damage to the elevator control rod that could lead to failure of the elevator control rod, possibly resulting in loss of control of the glider. We are issuing this AD to require actions to address the unsafe condition on these products.

(f) Actions and Compliance

Unless already done, do the following actions:

(1) Within 30 days after September 11, 2012 (the effective date of this AD), inspect the elevator control rod in the vertical fin following Glasfaser Flugzeug-Service GmbH Technical Note TN 201-40, TN 205-27, TN 206-26, TN 303-25, TN 304-12, TN 401-30, TN 501-10, and TN 604-11, Revision 1, dated July 14, 2011 (EASA translation approval dated September 9, 2011), as applicable to glider model.

(2) If you find any discrepancy in the inspection required by paragraph (f)(1) of this AD, before further flight, replace the elevator control rod with an elevator control rod that does not have a control bore hole, following Glasfaser Flugzeug-Service GmbH Technical Note TN 201-40, TN 205-27, TN 206-26, TN 303-25, TN 304-12, TN 401-30, TN 501-10, and TN 604-11, Revision 1, dated July 14, 2011 (EASA translation approval dated September 9, 2011), as applicable to glider model.

(3) Within 9 months after September 11, 2012 (the effective date of this AD), unless already done as required by paragraph (f)(2) of this AD, replace the elevator control rod in the vertical fin with an elevator control rod that does not have a control bore hole, following Glasfaser Flugzeug-Service GmbH Technical Note TN 201-40, TN 205-27, TN 206-26, TN 303-25, TN 304-12, TN 401-30, TN 501-10, and TN 604-11, Revision 1, dated July 14, 2011 (EASA translation approval dated September 9, 2011), as applicable to glider model.

(4) As of September 11, 2012 (the effective date of this AD), do not install an elevator control rod with a control bore hole.

(5) The actions mandated by this AD may be accomplished by persons authorized to perform maintenance in accordance with 14 CFR 43.3 and by persons authorized to approve aircraft for return to service after maintenance in accordance with 14 CFR 43.7.

(g) Other FAA AD Provisions

The following provisions also apply to this AD:

(1) Alternative Methods of Compliance (AMOCs): The Manager, Standards Office, FAA, has the authority to approve AMOCs for this AD, if requested using the procedures found in 14 CFR 39.19. Send information to ATTN: Jim Rutherford, Aerospace Engineer, FAA, Small Airplane Directorate, 901 Locust, Room 301, Kansas City, Missouri 64106; telephone: (816) 329-4165; fax: (816) 329-4090; email: jim.rutherford@faa.gov. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, a federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(h) Related Information

Refer to MCAI European Aviation Safety Agency (EASA) AD No.: 2011-0213R1, dated November 8, 2011; and Glasfaser Flugzeug-Service GmbH Technical Note TN 201-40, TN 205-27, TN 206-26, TN 303-25, TN 304-12, TN 401-30, TN 501-10, and TN 604-11, Revision 1, dated July 14, 2011 (EASA translation approval dated September 9, 2011), for related information. For service information related to this AD, contact Glasfaser Flugzeug-Service Hansjörg Streifeneder GmbH, D-72582 Grabenstetten, Germany; phone: +49(0)73821032, fax: +49(0)73821629; email: info@streifly.de; Internet: www.streifly.de/. You may review copies of the referenced service information at the FAA, Small Airplane Directorate, 901 Locust, Kansas City, Missouri 64106. For information on the availability of this material at the FAA, call (816) 329-4148.

(i) Material Incorporated by Reference

(1) You must use the following service information to do the actions required by this AD, unless the AD specifies otherwise. The Director of the Federal Register approved the incorporation by reference (IBR) under 5 U.S.C. 552(a) and 1 CFR part 51:

(i) Glasfaser Flugzeug Service GmbH Technical Note TN 201-40, TN 205-27, TN 206-26, TN 303-25, TN 304-12, TN 401-30, TN 501-10, and TN 604-11, Revision 1, dated July 14, 2011.

(ii) Reserved.

(2) For service information identified in this AD, contact Glasfaser Flugzeug-Service Hansjörg Streifeneder GmbH, D-72582 Grabenstetten, Germany; phone: +49(0)73821032, fax: +49(0)73821629; email: info@streifly.de; Internet: www.streifly.de/.

(3) You may review copies of the referenced service information at the FAA, Small Airplane Directorate, 901 Locust, Kansas City, Missouri 64106. For information on the availability of this material at the FAA, call (816) 329-4148.

(4) You may also review copies of the service information that is incorporated by reference at the National Archives and Records Administration (NARA). For information on the availability of this material at an NARA facility, call 202-741-6030, or go to http://www.archives.gov/federal_register/code_of_federal_regulations/ibr_locations.html.

Issued in Kansas City, Missouri, on July 18, 2012.
Earl Lawrence,
Manager, Small Airplane Directorate, Aircraft Certification Service.

[FR Doc. 2012-19088 Filed 8-6-12; 8:45 am]

BILLING CODE 4910-13-P